DEPARTMENT OF TRANSPORTATION

Federal Aviation Administration

14 CFR Part 71

[Docket No. FAA-2022-1233; Airspace Docket No. 22-AEA-14

Amendment of Class D and Class E Airspace, and Revocation of Class E Airspace; Quantico, VA

AGENCY: Federal Aviation Administration (FAA), DOT.

ACTION: Notice of proposed rulemaking (NPRM).

SUMMARY: This action proposes to amend Class D airspace, remove Class E airspace designated as an extension to a Class D surface area, establish a Class D airspace extension, and amend Class E airspace extending upward from 700 feet above the surface at Quantico MCAF (Turner Field), Quantico, VA, as an airspace evaluation determined an update is necessary. In addition, this action would remove the Brooke Very High-Frequency Omnidirectional Range Collocated Tactical Air (VORTAC) from the Class E airspace extending upward from 700 feet above the surface in the legal description, remove the extension to the south, and increases the radius of the Class E airspace. This action would also update the airport's geographic coordinates and replace the terms Notice to Airmen with Notice to Air Missions and Airport/Facility Directory with Chart Supplement in the descriptions.

DATES: Comments must be received on or before April 17, 2023.

ADDRESSES: Send comments on this proposal to: U.S. Department of Transportation, Docket Operations, 1200 New Jersey Avenue SE, West Building Ground Floor, Room W12-140, Washington, DC 20590; telephone: (800) 647-5527, or (202) 366-9826. You must identify FAA Docket No. FAA-2022-1233; Airspace Docket No. 22-AEA-14 at the beginning of your comments. You may also submit comments through the internet at www.regulations.gov.

FAA Order JO 7400.11G Airspace Designations and Reporting Points and subsequent amendments can be viewed online at www.faa.gov/air_traffic/publications/. For further information, contact the Rules and Regulations Group, Federal Aviation Administration, 800 Independence Avenue SW, Washington, DC 20591; telephone: (202) 267-8783.

FOR FURTHER INFORMATION CONTACT: John Goodson, Operations Support Group, Eastern Service Center, Federal Aviation Administration, 1701 Columbia Avenue, College Park, GA 30337; telephone (404) 305-5966.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, part A, Subpart I, Section 40103. Under that section, the FAA is charged with prescribing regulations to assign the use of airspace necessary to ensure the safety of aircraft and the efficient use of airspace. This regulation is within the scope of that authority as it would amend Class D airspace and Class E airspace for Quantico MCAF (Turner Field), Quantico, VA, as well as update the geographic coordinates of the airport and out-of-date terms. An airspace evaluation determined that this action is necessary to support IFR operations in the area and will enhance the safety and management of controlled airspace within the National Airspace.

Comments Invited

Interested parties are invited to participate in this proposed rulemaking by submitting such written data, views, or arguments as they may desire. Comments that provide a factual basis supporting the views and suggestions presented are particularly helpful in developing reasoned regulatory decisions on the proposal. Comments are specifically invited on the overall regulatory, aeronautical, economic, environmental, and energy-related aspects of the proposal.

Communications should identify both docket numbers (FAA Docket No. FAA-2022-1233; Airspace Docket No. 22-AEA-14) and be submitted in triplicate to the Docket Management Facility (see ADDRESSES section for address and phone number). You may also submit comments through the internet at www.regulations.gov.

Commenters wishing the FAA to acknowledge receipt of their comments on this action must submit with those comments a self-addressed stamped postcard on which the following statement is made: “Comments to FAA Docket No. FAA-2022-1233; Airspace Docket No. 22-AEA-14.” The postcard will be dated/time stamped and returned to the commenter.

All communications received on or before the specified comment closing date will be considered before taking action on the proposed rule. The proposal contained in this action may be changed in light of the comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see ADDRESSES section for address and phone number) between 9:00 a.m. and 5:00 p.m., Monday through Friday, except for Federal holidays. An informal docket may also be examined between 8:00 a.m. and 4:30 p.m., Monday through Friday, except on Federal holidays at the office of the Eastern Service Center, Federal Aviation Administration, Room 350, 1701 Columbia Avenue, College Park, GA 30337.

Incorporation by Reference

Class D airspace and Class E airspace designations are published in Paragraphs 5000, 6004, and 6005, respectively, of FAA Order JO 7400.11, Airspace Designations and Reporting Points, which is incorporated by reference in 14 CFR 71.1 on an annual basis. This document proposes to amend the current version of that order, FAA Order JO 7400.11G, dated August 19, 2022, and effective September 15, 2022. These updates would be published subsequently in the next update to FAA Order JO 7400.11. FAA Order JO 7400.11G is publicly available as listed in the ADDRESSES section of this document.

FAA Order JO 7400.11G lists Class A, B, C, D, and E airspace areas, air traffic service routes, and reporting points.

The Proposal

The FAA proposes an amendment to 14 CFR part 71 to amend Class D airspace for Quantico MCAF (Turner Field), Quantico, VA. The Class D airspace would be amended by establishing an extension of airspace extending from the 4-mile radius of the airfield and within a 5.4-mile radius of the airfield extending clockwise from the 168° bearing to the 209° bearing from the airfield. The geographical coordinates of the airfield would be updated to coincide with the FAA's database and replace the terms Notice to Airmen with Notice to Air Missions and Airport/Facility Directory with Chart Supplement in the description.

Also, this action would remove Class E airspace designated as an extension to a Class D surface area for Quantico MCAF (Turner Field), Quantico, VA, as the extensions will be included in the Class D description.

The Class E airspace extending upward from 700 feet above the surface would be amended by increasing the radius to 7.7-miles (previously 6.3-miles), removing the extension to the south, and removing the BROOKE VORTAC from Class E airspace header and Class E airspace legal description, as it is unnecessary in describing the airspace. Also, the geographical coordinates of the airfield would be updated to coincide with the FAA's database.

Regulatory Notices and Analyses

The FAA has determined that this proposed regulation only involves an established body of technical regulations for which frequent and routine amendments are necessary to keep them operationally current. It, therefore: (1) is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal would be subject to an environmental analysis in accordance with FAA Order 1050.1F, “Environmental Impacts: Policies and Procedures,” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

AEA VA D Quantico, VA [Amended]

Quantico MCAF (Turner Field), VA

(Lat. 38°30′13″ N, long. 77°18′18″ W)

That airspace extending upward from the surface to and including 2,500 feet MSL within a 4-mile radius of Quantico MCAF (Turner Field) and within a 5.4-mile radius of the airfield extending clockwise from the 168° bearing to the 209° bearing from the airfield. This Class D airspace area is effective during the specific dates and times established in advance by a Notice to Air Missions. The effective date and time will thereafter be continuously published in the Chart Supplement.

Paragraph 6004 Class E Airspace Designated as an Extension to Class D or E Surface Area.

* * * * *

AEA VA E4 Quantico, VA [Removed]

Paragraph 6005 Class E Airspace Areas Extending Upward From 700 Feet or More Above the Surface of the Earth.

* * * * *

AEA VA E5 Quantico, VA [Amended]

Quantico MCAF (Turner Field), VA

(Lat. 38°30′13″ N, long. 77°18′18″ W)

That airspace extending upward from 700 feet above the surface within a 7.7-mile radius of Quantico MCAF (Turner Field).

Issued in College Park, Georgia, on February 23, 2023.
Lisa E. Burrows,
Manager, Airspace & Procedures Team North, Eastern Service Center, Air Traffic Organization.

[FR Doc. 2023-04063 Filed 2-28-23; 8:45 am]

BILLING CODE 4910-13-P